DEPARTMENT OF THE INTERIOR

Bureau of Reclamation

Agency Information Collection; Activities Under OMB Review; Comment Request

AGENCY: Bureau of Reclamation, Interior.

ACTION: Notice of renewal of a currently approved collection (OMB No. 1006-0002).

SUMMARY: In accordance with the Paperwork Reduction Act of 1995, the Bureau of Reclamation (Reclamation) has forwarded the following Information Collection Request (ICR) to the Office of Management and Budget (OMB) for review and approval: Recreation Use Data Report, OMB Control Number: 1006-0002. As part of its continuing effort to reduce paperwork and respondent burdens, Reclamation invites other Federal agencies, State, local, or tribal governments which manage recreation sites at Reclamation projects; concessionaires, sub-concessionaires, and not-for-profit organizations who operate concessions on Reclamation lands; and the public, to comment on this information collection.

DATES: Comments on this notice must be received by August 24, 2009.

ADDRESSES: You may send written comments to the Desk Officer for the Department of the Interior at the Office of Management and Budget, Office of Information and Regulatory Affairs, via facsimile to (202) 395-5806, or e-mail to OIRA_DOCKET@omb.eop.gov. A copy of your comments should also be directed to the Bureau of Reclamation, Attention: 84-53000, P.O. Box 25007, Denver, CO 80225-0007.

FOR FURTHER INFORMATION CONTACT: Greek Taylor, Bureau of Reclamation, 303-445-2895. You may also contact the above to obtain copies, at no cost, of the forms and information collection.

SUPPLEMENTARY INFORMATION:

Title: Recreation Use Data Report (Part I, Form 7-2534, Managing Partners, and Part II, Form 7-2535, Concessionaires).

OMB No.: OMB No. 1006-0002.

Abstract: Reclamation collects Reclamation-wide recreation and concession information in support of existing public laws including the Federal Water Project Recreation Act (Pub. L. 89-72) and the Federal Lands Recreation Enhancement Act (Pub. L. 108-477), and to fulfill reports to the President and the Congress. This collection of information allows Reclamation to (1) Meet the requirements of the Government Performance and Results Act (GPRA); (2) fulfill congressional and financial reporting requirements; and (3) support specific information required by the Department of the Interior's GPRA-based strategic plan. Collected information will permit relevant program assessments of resources managed by Reclamation, its recreation managing partners, and/or concessionaires for the purpose of implementing Reclamation's mission to manage, develop, and protect water and related resources in an environmentally and economically sound manner in the interest of the American people. Specifically, the collected information provides Reclamation with the ability to evaluate program and management effectiveness pertaining to existing recreation and concessionaire resources and facilities, and validate effective public use of managed recreation resources located on Reclamation project lands and waterbodies in the 17 Western States.

Description of respondents: The respondents will include non-Federal government entities who manage recreation resources on Reclamation lands and waterbodies, and the concessions at those areas and other areas managed directly by Reclamation. Responses are voluntary.

Frequency: Annually.

Estimated completion time: An average of 30 minutes is required to complete Forms 7-2534 and 7-2535 each.

Annual responses: 282.

Annual burden hours: 142 hours.

Form No. | Burden estimate per form (in minutes) | Annual number of respondents | Annual burden on respondents (in hours)
7-2534 (Part I, Managing Partners) | 30 | 167 | 84
7-2535 (Part II, Concessionaires) | 30 | 115 | 58
Total burden hours |  |  | 142

Comments:

Reclamation invites your comments on:

(a) Whether the proposed collection of information is necessary for the proper performance of our functions, including whether the information will have practical use;

(b) the accuracy of our burden estimate for the proposed collection of information;

(c) ways to enhance the quality, usefulness, and clarity of the information to be collected; and

(d) ways to minimize the burden of the information collection on respondents, including the use of automated collection techniques or other forms of information technology.

An agency may not conduct or sponsor, and a person is not required to respond to, a collection of information unless it displays a currently valid OMB control number. Reclamation will display a valid OMB control number on Forms 7-2534 and 7-2535, OMB Control Number: 1006-0002.

A Federal Register notice with a 60-day comment period soliciting comments on this collection of information was published in the Federal Register (74 FR 9634, March 5, 2009). No public comments were received.

OMB has up to 60 days to approve or disapprove this information collection, but may respond after 30 days; therefore, public comment should be submitted to OMB within 30 days in order to assure maximum consideration.

Before including your address, telephone number, e-mail address, or other personal identifying information in your comment, you should be aware that your entire comment (including your personal identifying information) may be made publicly available at any time. While you can ask us in your comment to withhold your personal identifying information from public review, we cannot guarantee that we will be able to do so.

Roseann Gonzales,
Director, Policy and Program Services, Denver Office.

[FR Doc. E9-17563 Filed 7-22-09; 8:45 am]

BILLING CODE 4310-MN-P